DEPARTMENT OF THE INTERIOR

Bureau of Land Management

[LLWY921000.L144000000.ET0000.20X, WYW-188618]

Notice of Realty Action: Recreation and Public Purposes (R&PP) Act Classification and Conveyance, Wyoming

AGENCY: Bureau of Land Management, Interior.

ACTION: Notice of realty action.

SUMMARY: The Bureau of Land Management (BLM) has examined and found suitable for classification to convey 227.5 acres of public land to Park County under the provisions of the Recreation and Public Purposes (R&PP) Act, as amended. As a political subdivision of the State of Wyoming, Park County is a qualified applicant under the R&PP Act. Park County has not applied for more than 6,400-acres for recreation uses in a year, nor for more than 640 acres for each of the programs involving public resources other than recreation, as required by the R&PP Act.

DATES: Submit written comments regarding this proposed classification and conveyance on or before November 9, 2020. The BLM will not consider comments received by telephone or email.

ADDRESSES: Mail written comments to the Field Manager, BLM Cody Field Office, 1002 Blackburn Street, Cody, Wyoming, 82414. Comments may be mailed or hand delivered to the Cody Field Office. Information including, but not limited to, a proposed development and management plan and documentation relating to compliance with applicable environmental and cultural resource laws is available for review during business hours, 8:00 a.m. to 4:30 p.m. Mountain Standard Time, Monday through Friday, except during Federal holidays, at the BLM Cody Field Office at the address above.

FOR FURTHER INFORMATION CONTACT: Cara Blank, Realty Specialist, by telephone at 307-578-5912. Persons who use a telecommunications device for the deaf may call the Federal Relay Service (FRS) at 1-800-877-8339 to leave a message or question for the above individual. The FRS is available 24 hours a day, 7 days a week. You will receive a reply during normal business hours.

SUPPLEMENTARY INFORMATION: Park County has submitted a statement in compliance with the regulations at 43 CFR 2741.4(b). Park County proposes to use the land for operating and maintaining an expansion of an existing public shooting range facility.

Park County has filed an application for patent of the following described lands. The lands examined and identified as suitable for conveyance under the R&PP Act are described as:

Sixth Meridian, Wyoming

T. 53 N., R. 102 W.,

Sec. 14, SW¼SW¼NW¼SE¼, NW¼SW¼SE¼, SW¼SW¼SE¼, and W½SE¼SW¼SE¼;

Sec. 23, SW¼NW¼NE¼NE¼, SW¼NE¼NE¼, NW¼NE¼, NE¼SW¼NE¼, NW¼SW¼NE¼, SW¼SW¼NE¼, NW¼SE¼SW¼NE¼, NW¼NW¼SE¼NE¼, NE¼SW¼, NW¼SW¼, NE¼SW¼SW¼, NE¼SE¼SW¼, NW¼SE¼SW¼, and NW¼NW¼NW¼SE¼.

The area described contains 227.5 acres.

These lands are currently withdrawn for use by the Bureau of Reclamation. Consent to convey these lands was received from the Bureau of Reclamation on April 10, 2019. The lands are not needed for any Federal purposes.

Conveyance of the lands for recreational or public purposes use is in conformance with the BLM Cody Field Office Resource Management Plan dated September 2015 and is in the public interest. The BLM conducted a Phase I environmental site assessment in July 2019. No evidence of recognized environmental conditions was identified on the parcel.

All interested parties will receive a copy of this notice once it is published in the Federal Register. A notice with information about this proposed realty action will be published in the newspaper of local circulation once each week for three consecutive weeks. The regulations at 43 CFR 2741 addressing requirements and procedures for conveyances under the R&PP Act do not require a public meeting.

Upon publication of this notice in the Federal Register, the lands will be segregated from all other forms of appropriation under the public land laws, including locations under the mining laws, except for lease or conveyance under the R&PP Act and leasing under the mineral leasing laws.

The conveyance documents, when issued, will require the lands to be conveyed to remain subject to valid existing rights. The conveyance documents will contain the terms, conditions and reservations listed below, as well as any additional terms or conditions required by law, including any required by 43 CFR 2741.5. The conveyance will reserve to the United States:

1. Rights-of-way thereon for ditches and canals constructed by the authority of the United States Act of August 30, 1890 (26 Stat. 391; 43 U.S.C. 945).

2. Provisions of the R&PP Act and to all applicable regulations of the Secretary of the Interior.

3. All mineral deposits, including saleable sand and gravel, in the land so patented, shall be reserved to the United States, together with the right to prospect for, mine and remove such deposits from the same under applicable law and such regulations as the Secretary of the Interior may prescribe, including all necessary access and exit rights.

4. Except as provided in provision 7 below, title shall revert to the United States upon a finding, after notice and opportunity for a hearing, that, without the approval of the Secretary of the Interior or his delegate, the patentee or its approved successor attempts to transfer title to or control over the lands to another, the lands have been devoted to a use other than that for which the lands were conveyed, the lands have not been used for the purpose for which the lands were conveyed for a 5-year period, or the patentee has failed to follow the approved development plan or management plan.

5. An appropriate indemnification clause protecting the United States from claims arising out of the patentee's use, occupancy, or occupation on the leased/patented lands.

6. If, at any time, the patentee transfers to another party ownership of any portion of the land not used for the purpose(s) specified in the application and approved plan of development, the patentee shall pay the BLM the fair market value, as determined by the authorized officer, of the transferred portion as of the date of transfer, including the value of any improvements thereon.

7. No portion of the land shall under any circumstances revert to the United States if any such portion has been used for a shooting range or any other purpose which may result in the disposal, placement or release of any hazardous substance.

Classification Comments: Interested persons may submit comments involving the suitability of the land for development and use as a shooting range. Comments on the classification are restricted to whether the land is physically suited for the proposal, whether the use will maximize the future use or uses of the land, whether the use is consistent with local planning and zoning, or if the use is consistent with state and Federal programs.

Application Comments: Interested persons may submit comments regarding the specific use proposed in the application and plan of development and management, and whether the BLM followed proper administrative procedures in reaching the decision to convey under the R&PP Act.

Any adverse comments will be reviewed by the BLM Wyoming State Director or other authorized official of the Department of the Interior, who may sustain, vacate, or modify this realty action. In the absence of any adverse comments, the classification will become effective on November 24, 2020. The lands will not be offered for conveyance until after the classification becomes effective.

Before including your address, phone number, email address or other personal identifying information in any comment, be aware that your entire comment, including your personal identifying information, may be made publicly available at any time. While you can ask us in your comment to withhold your personal identifying information from public review, we cannot guarantee that we will be able to do so.

Authority: 43 CFR 2741.5.

Duane Spencer,
Acting State Director, Wyoming.

[FR Doc. 2020-21145 Filed 9-24-20; 8:45 am]

BILLING CODE 4310-22-P